DEPARTMENT OF STATE

[Public Notice: 11581]

Advisory Committee on Historical Diplomatic Documentation—Notice of Virtual Open Meeting

The Advisory Committee on Historical Diplomatic Documentation will meet on December 6, 2021 in a virtual open session to discuss the status of the production of the Foreign Relations series and any other matters of concern to the Committee.

The Committee will meet in open session from 10:00 a.m. until noon through a virtual platform. Members of the public planning to attend the virtual meeting should RSVP to Julie Fort at FortJL@state.gov. RSVP and requests for reasonable accommodation should be sent not later than November 27, 2021. The platform type and instructions on how to join the virtual meeting will be provided upon receipt of RSVP. Note that requests for reasonable accommodation received after November 27 will be considered but might not be possible to fulfill.

Closed Session. The Committee's sessions in the afternoon of Monday, December 6, 2021 and in the morning of Tuesday, December 7, 2021, will be in person and will be closed in accordance with Section 10(d) of the Federal Advisory Committee Act (Pub. L. 92-463). The agenda calls for review of classified documentation concerning the Foreign Relations series and other declassification issues. These are matters properly classified and not subject to public disclosure under 5 U.S.C. 552b(c)(1) and the public interest requires that such activities be withheld from disclosure.

Questions concerning the meeting should be directed to Adam M. Howard, Executive Secretary, Advisory Committee on Historical Diplomatic Documentation, Department of State, Office of the Historian, Washington, DC 20372, history@state.gov.

Adam M. Howard,
Executive Secretary, Advisory Committee on Historical, Diplomatic Documentation.

[FR Doc. 2021-24640 Filed 11-10-21; 8:45 am]

BILLING CODE 4710-34-P